DEPARTMENT OF THE INTERIOR

Geological Survey

Patent, Trademark & Copyright Acts

AGENCY: U.S. Geological Survey.

ACTION: Notice of Prospective Intent to Award Exclusive License.

SUMMARY: The United States Geological Survey (USGS) is contemplating awarding an exclusive license to: Williamson and Associates, 1124 NW., 53rd Street, Seattle, WA 98107 on U.S. Patent Nos. 6,236,211 B1 and 6,236,212 B1, both entitled “Induced Polarization Method Using Towed Cable Carrying Transmitters and Receivers for identifying Minerals on the Ocean Floor.”

Inquiries: If other parties are interested in similar activities, or have comments related to the prospective awards, please contact Neil Mark, USGS, 12201 Sunrise Valley Drive, MS 201, Reston, Virginia 20192, voice (703) 648-4344, fax (703) 648-7219, or e-mail nmark@usgs.gov.

SUPPLEMENTARY INFORMATION: This notice is submitted to meet the requirements of 35 U.S.C. 208 et seq.

Dated: December 7, 2006.
Karen D. Baker,
Associate Director, Office of Administrative Policy and Services.

[FR Doc. 06-9690 Filed 12-13-06; 8:45 am]

BILLING CODE 4310-Y7-M